DEPARTMENT OF ENERGY

Federal Energy Regulatory Commission

[Docket No. CP02-22-000]

Michigan Gas Storage Company; Notice of Application

December 3, 2001.

Take notice that on November 9, 2001, Michigan Gas Storage Company (Michigan Gas), 212 West Michigan Avenue, Jackson, Michigan, 49201, filed an application pursuant to section 1(c) of the Natural Gas Act (NGA), as amended, and section 152.1 of the Commission's regulations, for a declaration of exemption from the provisions of NGA. Copies of this filing are on file with the Commission and are available for public inspection. This filing may also be viewed on the web at http://www.ferc.gov using the “RIMS” link, select “Docket#” and follow the instructions (call 202-208-2222 for assistance).

Any person desiring to be heard or make any protest with reference to said application should on or before December 24, 2001, file with the Commission 888 First Street, NE., Washington, DC 20426, a motion to intervene or a protest in accordance with the requirements of the Commission's Rules of Practice and Procedures (19 CFR sections 385.211 and 385.214) and the Regulations under the Natural Gas Act (18 CFR section 157.10). All protests filed with the Commission will be considered by it in determining the appropriate action to be taken but will not serve to make the Protestants parties to the proceedings. Any person wishing to become a party to a proceeding or to participate as a party in any hearing therein must file a petition in accordance with the Commission's Rules. Comments, protests and interventions may be filed electronically via the Internet in lieu of paper. See, 18 CFR 385.2001(a)(1)(iii) and the instructions on the Commission's web site under the “e-Filing” link.

Take notice that, pursuant to the authority contained in and subject to the jurisdiction conferred upon the Commission by sections 7 and 15 of the Natural Gas Act and the Commission's Rules of Practice and Procedure, a hearing will be held without further notice before the Commission on this application if no protest or motion to intervene is filed within the time required herein. At that time, the Commission, on its own review of the matter, will determine whether granting the abandonment is required by the public convenience and necessity. If a petition for leave to intervene is timely filed, or if the Commission on its own motion believes that a formal hearing is required, further notice of such hearing will be duly given.

Under the procedure herein provided for, unless otherwise advise, it will be unnecessary for Michigan to appear or be represented at the hearing.

Linwood A. Watson, Jr.,
Acting Secretary.

[FR Doc. 01-30351 Filed 12-6-01; 8:45 am]

BILLING CODE 6717-01-P